DEPARTMENT OF COMMERCE

National Oceanic and Atmospheric Administration

[I.D. 092804A]

Magnuson-Stevens Act Provisions; General Provisions for Domestic Fisheries; Application for Exempted Fishing Permits

AGENCY: Department of Commerce, National Oceanic and Atmospheric Administration (NOAA), National Marine Fisheries Service (NMFS).

ACTION: Notification of a proposal for an Exempted Fishing Permit (EFP) to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to issue an EFP that would allow two vessels to conduct fishing operations that are otherwise restricted by the regulations governing the fisheries of the Northeastern United States. The EFP would allow for exemptions from the NE multispecies Georges Bank (GB) regulated mesh area minimum mesh size and gear requirements, the NE multispecies closed area restrictions, and the NE multispecies minimum fish size requirements. The applicant proposes to conduct a study of an experimental haddock separator trawl, a bycatch reduction device, in order to examine the effectiveness of this type of gear at reducing the catch of Atlantic cod, and other similarly behaving groundfish, when directing on haddock. The EFP would allow these exemptions for two commercial vessels for 54 sea sampling days. All experimental work would be monitored by University of Massachusetts, Dartmouth, School for Marine Science and Technology (SMAST) personnel. Regulations under the Magnuson-Stevens Fishery Conservation and Management Act require publication of this notification to provide interested parties the opportunity to comment on applications for proposed EFPs.

DATES: Comments on this document must be received on or before October 18, 2004.

ADDRESSES: Comments on this notice may be submitted by e-mail. The mailbox address for providing e-mail comments is DA667@noaa.gov. Include in the subject line of the e-mail comment the following document identifier: “Comments on SMAST EFP Proposal for Haddock Separator Trawl Study (DA-667).” Written comments should be sent to Patricia A. Kurkul, Regional Administrator, NMFS, Northeast Regional Office, 1 Blackburn Drive, Gloucester, MA 01930. Mark the outside of the envelope “Comments on SMAST EFP Proposal for Haddock Separator Trawl Study (DA-667).” Comments may also be sent via facsimile (fax) to (978) 281-9135.

FOR FURTHER INFORMATION CONTACT: Jason Blackburn, Fishery Management Specialist, phone: 978-281-9326, fax: 978-281-9135.

SUPPLEMENTARY INFORMATION: An application for an EFP was submitted by SMAST on August 23, 2004. The EFP would exempt two federally permitted commercial fishing vessels from the following requirements in the NE Multispecies FMP: NE multispecies GB regulated mesh area minimum mesh size and gear requirements specified at § 648.80(a)(4) to allow them to use a codend modified with a horizontal net panel (the experimental haddock separator panel) and a small mesh cover for quantifying catch composition; the NE multispecies closed area restrictions specified at § 648.81(a) to allow them temporary access to Closed Area I for the purposes of conducting this study; and the NE multispecies minimum fish size requirements specified at § 648.83(a) to allow them to temporarily retain sub-legal sized fish for measurement.

The goal of this study is to assess the selectivity of a bycatch reduction device in the NE groundfish fishery. Three factors would be examined in this study: (1) Net selectivity—examination of catch composition of the experimental and control nets; (2) trawl duration—tow duration would be modified to test catch rates based on tow durations of one hour, two hours, and three hours; and (3) seasonal variation—the study would be conducted during fall, winter, and spring, to determine if there are any seasonal differences in catch or fish behavior. The specific trawl design to be tested is referred to as a haddock separator trawl. The separation panel and 2-inch (5.08-cm) mesh cover would be sewn into the extension and codend of a conventional trawl net designed with 6.0-inch (15.24-cm) mesh in the fishing circle and 6.5-inch (16.5-cm) mesh in the codend. The codend would be further modified to create an upper and lower codend.

The study would begin in October and continue through July 31, 2005. During the study, the vessels would perform side-by-side tows. The number of tows would average approximately 8.3 per day. There would be 18 sea sampling days per season, over three seasons (fall, winter, and spring), for a total of 54 sea sampling days (not including steaming time). There would be 150 side-by-side tows per season, for a total of 450 tows per vessel. The tow durations would be one, two, and three hours, with 50 side-by-side tows of each duration per season. The vessels would fish in GB Closed Area I and the offshore fishing grounds represented by 30-minute squares 79, 80, 81, 96, 97, 98, 111, 112, and 113. All fish retained by the upper and lower codends would be counted, weighed, and measured. All legal catch would be landed and sold, consistent with the current daily and trip possession and landing limits. Current regulations restrict vessels fishing on GB to landing no more than 1,000 lb (454 kg) of cod per DAS, up to a maximum of 10,000 lb (4,536 kg) per trip, and no more than 3,000 lb (1,361 kg) of haddock per DAS, up to a maximum of 30,000 lb (13,608 kg) per trip from May 1 to September 30, and no more than 5,000 lb (2,268 kg), up to a maximum of 50,000 lb (22,680 kg) per trip from October 1 to April 30. Undersized fish would be returned to the sea as quickly as possible after measurement. The participating vessels would be required to report all landings in their Vessel Trip Reports.

The target fishery is the groundfish mixed-species fishery. The target species are haddock and cod. The applicant estimates the total amount of the main species that would be expected to be caught under this EFP are: 426,000 lb (193,230 kg) of haddock; 75,240 lb (34,128 kg) of Atlantic cod; and 11,340 lb (5,144 kg) of American plaice. Other commercially important fish commonly found in the groundfish mixed-species fishery are expected to be caught incidentally. The incidental catch is expected to be comprised of skates, monkfish, witch flounder, winter flounder, spiny dogfish, and pollock.

The applicant is preparing an Environmental Assessment (EA) that will analyze the impacts of the proposed experimental fishery on the human environment. This EA will examine whether the proposed activities are consistent with the goals and objectives of the FMP, whether they would be detrimental to the well-being of any stocks of fish harvested, and whether they would have any significant environmental impacts. The EA will also examine whether the proposed experimental fishery would be detrimental to essential fish habitat, marine mammals, or protected species.

Authority: 16 U.S.C. 1801 et seq.

Dated: September 28, 2004.
Alan D. Risenhoover,
Acting Director, Office of Sustainable Fisheries, National Marine Fisheries Service.

[FR Doc. E4-2462 Filed 9-30-04; 8:45 am]

BILLING CODE 3510-22-S